DELAWARE RIVER BASIN COMMISSION

Notice of Commission Meeting and Public Hearing

Notice is hereby given that the Delaware River Basin Commission will hold an informal conference followed by a public hearing on Wednesday, July 20, 2005. The hearing will be part of the Commission's regular business meeting. Both the conference session and business meeting are open to the public and will be held at the Commission's office building, 25 State Police Drive, West Trenton, New Jersey.

The conference among the commissioners and staff will begin at 10 a.m. Topics of discussion will include: a status report on implementation of the pollutant minimization plan (PMP) regulation approved by the Commission on May 18, 2005, and formation of a peer review advisory committee to evaluate the PMP effort; a report and discussion on post-flood activities; a proposal to rename the Flow Management Technical Advisory Committee and modify its membership; a proposed amendment to the Basin Regulations—Water Supply Charges, relating to entitlements; a status report on re-evaluation of administrative agreements and project review procedures; an update on the Pennsylvania Act 220 State water planning process, including regional priorities; and a presentation on DRBC's water monitoring and assessment program, an EPA “Ten Elements Plan”.

The subjects of the public hearing to be held during the 1:30 p.m. business meeting include the dockets listed below:

1. City of New Castle, Municipal Services Commission D-78-71 CP-3. An application for renewal of a ground water withdrawal project to continue to supply up to 48.0 million gallons per thirty days (mg/30 days) to the applicant's public water supply distribution system from existing Wells Nos. 1 through 4, in the Potomac Formation. The project is located in the Army Creek Watershed in the City of New Castle, New Castle County, Delaware.

2. Wells Farms, Inc. D-99-67. An application for approval of a ground water withdrawal project to supply up to 80 mg/30 days of water from Wells Nos. Wells Farm No. 1, Wells Farm No. 2, Parold Davis and Shepard Prettyman, for irrigation of the applicant's farm crops near the Town of Milton, Sussex County, Delaware. The water will be used to irrigate approximately 370 acres of grains and vegetables.

3. Lazy Boy Farm, Inc. D-2000-50. An application for approval of a ground water withdrawal project to supply up to 45.240 mg/30 days of water to the applicant's agricultural irrigation system from existing Wells Nos. 1 and 2 in the Rancocas Aquifer, and up to 43.4464 mg/30 days from Pond No. 1, and to limit the withdrawal from all sources to 86.8928 mg/30 days. The project is located near the Town of Middletown, New Castle County, Delaware.

4. Richard M. Morgan D-2000-62. A combined surface water and ground water withdrawal project to supply a maximum of 137.562164 mg/30 days of water to irrigate approximately 585 acres of the applicant's farm crops. Approximately 74.293344 mg/30 days will be provided by the applicant's five existing and wells and approximately 63.268820 mg/30 days of surface water will be withdrawn from a Hudson Pond tributary and Three Bridge Branch. The project is located near the Town of Lincoln, Sussex County, Delaware.

5. Howard A. Webb D-2005-11-1. An application for approval of a ground and surface water withdrawal project to supply up to 19 mg/30 days of water to the applicant's agricultural irrigation system from new Wells Nos. 1, 2, 3 and 4 in the Columbia Formation and up to 54 mg/30 days from Intakes Nos. 1 and 2 in the farm pond and to limit the withdrawal from all sources to 73 mg/30 days. The project is located in the Mispillion River and Cedar Creek watersheds in the Town of Milford, Sussex County, Delaware.

6. Theodore Bobola D-2005-15-1. A ground water withdrawal project to supply a maximum of 35 mg/30 days of water from Wells Nos. 1, 2, 3 and 4 to irrigate the applicant's farm crops in the City of Dover, Kent County, Delaware. The water will be used to irrigate approximately 217 acres in the St. Jones River Watershed.

7. Borough of Haddonfield D-75-84 CP-2. An application for the renewal of a ground water withdrawal project and decrease in withdrawal from 97.5 mg/30 days to 61.9 mg/30 days to supply the applicant's public supply distribution system from existing Wells Nos. 1A, 5, 6 and 7. The project is located in the Cooper River Watershed in Haddonfield Borough, Camden County, New Jersey.

8. Borough of Pennington D-84-33 CP-3. An application for a renewal of a ground water withdrawal project to continue to supply up to 6.48 mg/30 days of water to the applicant's public water supply distribution system from existing Well No. 7 in the Brunswick Formation, without a change in allocation. The applicant's distribution system is also supplied by four wells located outside of the Delaware River Basin. The project is located in the Jacobs Creek Watershed in Pennington Borough, Mercer County, New Jersey.

9. Sunoco, Inc. (R&M) D-86-15-3. An application for approval of a surface water and ground water withdrawal project to revise and consolidate the allocations included in Dockets D-86-5 and D-86-15 REN. The applicant requests an increase in its surface water withdrawal from the Delaware River from 175.104 mg/30 days to 265.0 mg/30 days. The draft docket proposes a corresponding decrease in the existing ground water allocation from 232 mg/30 days to 142 mg/30 days from Wells Nos. 1, 3, 5 and 6A in the Potomac-Raritan-Magothy Aquifer. Surface water withdrawals provide industrial cooling and process water. Ground water withdrawals are used to provide industrial cooling, process water, and potable water as well as to maintain hydraulic control and meet ground water remediation goals. The project is located in the Delaware River Watershed in West Deptford Township, Gloucester County, New Jersey.

10. Polyone Corporation D-89-74-2. An application for the renewal of a ground water withdrawal project to continue withdrawal of 44.64 mg/30 days of water to supply the applicant's industrial manufacturing facility from existing Wells Nos. 4, 6 and 10 and new replacement Well No. 9A in the Potomac-Raritan-Magothy Aquifer. The project is located in Oldmans Township, Salem County, New Jersey. (This was NAR'd as D-89-74 Renewal.)

11. Pennsgrove Water Supply Company—Bridgeport Division D-93-28 CP-2. An application for the renewal of a ground water withdrawal project to continue withdrawal of 4.7 mg/30 days to supply the applicant's public water supply distribution system from existing Wells Nos. 2 and 3. The project is located in the Raccoon Creek Watershed in Logan Township, Gloucester County, New Jersey.

12. Township of Greenwich D-94-51 CP-2. An application for renewal of a ground water withdrawal project to continue to supply up to 46.8 mg/30 days to the applicant's public water supply distribution system from existing Wells Nos. 4A, 5 and 6, located in the Potomac-Raritan-Magothy Formation within the Delaware River Watershed in Greenwich Township, Gloucester County, New Jersey.

13. Estaugh Corporation T/A Medford Leas D-94-56 CP-2. An application for a renewal of a surface water and ground water withdrawal project to continue to supply up to 4.9 mg/30 days of water to the applicant's public water supply distribution system from existing surface water Intake No. 1 on the Southwest Branch Rancocas Creek and existing Wells Nos. 1 and 2 in the Potomac-Raritan-Magothy Formation, without a change in allocation. The project is located in the Sharps Run Watershed in Medford Township, Burlington County, New Jersey.

14. Washington Township Municipal Utilities Authority D-99-43 CP. An application for approval of a ground water withdrawal project to supply up to 24.81 mg/30 days of water to the applicant's distribution system from new ASR Well No. ASR 20, and to increase the total withdrawal from all wells to 273.01 mg/30 days. The project is located in Washington Township, Gloucester County, New Jersey.

15. South Jersey Water Supply Company D-99-57 CP. An application for approval of a ground water withdrawal project to supply up to 42 mg/30 days of water to the applicant's distribution system from new Wells Nos. 5 and 7 and existing Wells Nos. 2, 3 and 6, and to retain the withdrawal limit from all wells of 42 mg/30 days. Wells Nos. 2, 3 and 6 are located in the NJDEP's Water Supply Critical Area No. 2. The project withdrawal is from the Potomac-Raritan-Magothy Aquifer and is located in Harrison Township, Gloucester County, New Jersey.

16. Salem City Water Department D-2002-46 CP. An application for approval of a ground water withdrawal project to supply up to 36 mg/30 days of water to the applicant's public water supply from new Wells Nos. 6 and 7 and existing Well No. 2 in the Wenonah-Mt. Laurel Formation and up to 93 mg/30 days from the Laurel Lake and Elkinton Pond intakes, and to limit the total system withdrawal to 93 mg/30 days. The project is located in the Salem River watershed in the City of Salem, Salem County, New Jersey.

17. The Lawrenceville School D-2005-13-1. An application for approval of a ground water withdrawal project to supply up to 5.98 mg/30 days for the applicant's potable water supply and for irrigation of athletic fields from Wells Nos. 1, 2, 3 and 4 in the Stockton Formation. The allocation from all wells will be limited to 5.98 mg/30 days. The project is located in the Assunpink Creek Watershed in Lawrence Township, Mercer County, New Jersey.

18. United Mobile Homes D-2005-3-1. An application to expand an existing sewage treatment plant (STP) from 54,000 gallons per day (gpd) to 79,500 gpd to serve 48 additional units in the Kinnebrook Mobile Home Park. The project is located just south of Route 17B, near its intersection with Hamilton Road in the Town of Thompson, Sullivan County, New York, within the drainage area of the Special Protection Waters. Following tertiary treatment, the effluent will be discharged to an unnamed tributary of the Kinne Brook.

19. Myerstown Water Authority D-81-67 CP-3. An application for a renewal of a ground water withdrawal project to continue to supply up to 33.0 mg/30 days of water to the applicant's public water supply distribution system from existing Wells Nos. 3, 5, 6 and 8 in the Hamburg and Ontelaunee Formations, without a change in allocation. The project is located in the Tulpehocken Creek Watershed in Jackson Township and the Borough of Myerstown, Lebanon County, Pennsylvania.

20. PennEngineering D-86-31 PA-3. An application for the renewal of a ground water withdrawal project to continue withdrawal of 1.3 mg/30 days from existing Well G to supply the applicant's manufacturing facility. The primary purposes of the withdrawal are domestic use and air conditioning during the summer months. Approximately 2% of the withdrawal is used for industrial processes. The project is located in the Lockatong Formation in Plumstead Township, Bucks County, Pennsylvania, within the Southeastern Pennsylvania Ground Water Protected Area.

21. Grand Central Sanitary Landfill, Inc. D-88-52-2. An application to upgrade a 0.1 million gallon per day leachate treatment plant (LTP) located on a 537.9-acre tract, just east of State Route 512 in Plainfield Township, Northampton County, Pennsylvania. The LTP serves the Grand Central Sanitary Landfill, which receives interstate, non-hazardous refuse. The existing activated sludge treatment process will be upgraded with a sequencing batch reactor system that includes powdered activated carbon and polymer addition. The existing reverse osmosis (RO) system will be replaced with an improved model that includes microfiltration. This advanced treatment is designed to meet an effluent Total Dissolved Solids (TDS) limit of 1,000 milligrams per liter (mg/l). Thus, the DRBC's TDS effluent limit of 2,400 mg/l will be reduced to 1,000 mg/l. Additional process and operational improvements will be made. No expansion of the LTP is proposed. The primary method of leachate disposal for the landfill is to discharge to the Pen Argyl Sewage Treatment Plant (STP) following partial treatment, and the secondary alternative is to discharge fully treated effluent to Little Bush Kill in the drainage area of the Lower Delaware River Management Plan Area.

22. Delaware County Solid Waste Authority D-89-18 CP-3. An application to modify the Rolling Hills Sanitary Landfill (RHSL) (formerly Colebrookdale Landfill) leachate treatment plant (LTP) discharge to Manatawny Creek via Outfall 001 in the Schuylkill River Watershed. The landfill and LTP are located off Schenkel Road in Earl Township, Berks County, Pennsylvania. Following advanced treatment of 0.08 million gallons per day (mgd), LTP effluent is discharged via diffuser to a point on the Manatawny Creek in Oley Township, Berks County, Pennsylvania approximately one mile downstream from RHSL. The docket holder has requested an increase in the average discharge concentration of total dissolved solids (TDS) to 30,000 milligrams per liter (mg/l) from the existing 15,000 mg/l. In support of its requested modification, the docket holder has submitted an analysis concluding that the proposed modification will cause no adverse effect on the downstream aquatic community, nor will it threaten potable water supply intakes located over 20 river miles downstream. In further support to this determination, the docket holder will demonstrate via in-stream monitoring and assessment of analytical data to be collected in at least a one-year period, that the project will not have an adverse impact. An alternatives analysis was completed by the docket holder. The LTP uses the Best Practicable Treatment (BCT) technology. A wetlands treatment system is used to remove iron from up to 0.087 mgd of on-site groundwater. No expansion of the LTP or the wetlands treatment system is proposed. PADEP has approved the discharge from the wetlands treatment system via Outfall 006 to adjacent Furnace Run.

23. Pennsylvania Utility Company D-89-33 CP-2. An application for the renewal of a ground water withdrawal project to continue to supply up to 6.4 mg/30 days of water to the applicant's public water distribution system from Wells Nos. 1, 2 and 3 in the Catskill Formation. The project is located in Lehman Township, Pike County, Pennsylvania. (This was NAR'd under the name of Tamiment Water Company as D-89-33 CP Renewal.)

24. Pilgrims Pride Corporation D-89-65-2. An application to modify an industrial wastewater treatment plant (IWTP) discharge to an unnamed, intermittent tributary of Indian Creek in the Perkiomen Creek Watershed. The project, formerly owned by Wampler-Longacre, Inc. is located at the intersection of Allentown Road and Route 113 in Franconia Township, Montgomery County, Pennsylvania. The facility formerly processed tuna and poultry but currently processes only poultry products. Because the project is located in the Southeastern Pennsylvania Ground Water Protected Area, the applicant has implemented mandatory water conservation measures. As a result, total dissolved solids (TDS) are present at an elevated concentration in the IWTP effluent. The applicant's current draft NPDES Permit limits the effluent TDS concentration to 1,000 milligrams per liter (mg/l). The applicant requests a limit of 4,700 mg/l, which is consistent with the Pennsylvania Department of Environmental Protection's draft permit limit for osmotic pressure of 100 milliosmos per kilogram. The applicant has submitted with its requested modification an analysis that addresses environmental impact. The project is located in the drainage area of the Schuylkill River, which is conditionally designated as Modified-Recreational in the Delaware River Basin Commission Comprehensive Plan.

25. Blue Mountain Water Cooperative D-93-27-2. An application for the renewal of a ground water withdrawal project to reduce withdrawal from 10.8 mg/30 days to 5 mg/30 days to supply the applicant's Tilden Industrial Park from existing Wells Nos. 1, 2 and 5. The project is located in the Schuylkill River Watershed in Tilden Township, Berks County, Pennsylvania.

26. Filomina, Inc. D-93-47-2. An application for renewal of a ground water withdrawal project to continue to supply up to 9.1 mg/30 days of water for supplemental irrigation of the applicant's golf course from existing Wells Nos. 1, 6 and 8, all in the Catskill Formation. No change in the existing allocation is proposed. The project is located in the Pohopoco Creek Watershed in Polk Township, Monroe County, Pennsylvania.

27. Lower Makefield Township D-2002-48 CP-2. An application for approval of a ground water withdrawal project to supply up to 1.73 mg/30 days of water for supplemental irrigation of the applicant's golf course from new Well No. PW-3 in the Stockton Formation, and to retain the maximum withdrawal from existing Wells Nos. PW-1 and PW-2 and new Well PW-3 of 8.64 mg/30 days. The project is located in the Delaware River Watershed in Lower Makefield Township, Bucks County, Pennsylvania.

In addition to the public hearing on the dockets listed above, the Commission's 1:30 p.m. business meeting will include possible action on a resolution to rename the Flow Management Technical Advisory Committee and modify its membership; a resolution authorizing the Executive Director to engage a contractor to support the Commission in the collection and assessment of information for the “State of the Basin Report 2006”; and resolutions regarding health insurance benefits for Commission retirees.

The meeting will also include: adoption of the Minutes of the May 18, 2005 business meeting; announcements; a report on basin hydrologic conditions; a report by the executive director; a report by the Commission's general counsel; and an opportunity for public dialogue. Draft dockets and the resolutions scheduled for public hearing or action on July 20, 2005 will be posted on the Commission's Web site, http://www.drbc.net, where they can be accessed through the Notice of Commission Meeting and Public Hearing. Additional documents relating to the dockets and other items may be examined at the Commission's offices. Please contact William Muszynski at 609-883-9500, extension 221 with any docket-related questions.

Individuals in need of an accommodation as provided for in the Americans with Disabilities Act who wish to attend the informational meeting, conference session or hearings should contact the commission secretary directly at 609-883-9500 ext. 203 or through the Telecommunications Relay Services (TRS) at 711, to discuss how the Commission may accommodate your needs.

Dated: June 27, 2005.
Pamela M. Bush,
Commission Secretary.

[FR Doc. 05-13119 Filed 7-1-05; 8:45 am]

BILLING CODE 6360-01-P